DEPARTMENT OF ENERGY

Federal Energy Regulatory Commission

[Project No. 13133-000]

Division Canyon Hydro, LLC; Notice of Preliminary Permit Application Accepted for Filing and Soliciting Comments, Motions To Intervene, and Competing Applications

July 21, 2008.

On February 25, 2008, Division Canyon Hydro, LLC filed an application, pursuant to section 4(f) of the Federal Power Act, proposing to study the feasibility of the Division Canyon Pump Storage Hydroelectric Project, located on the Division Canyon, in Elko County, Nevada.

The proposed pumped storage project would consist of: (1) A lower gravity dam 180 feet in height, with a crest length of 810 feet, and a hydraulic head of 160 feet, and an upper gravity dam 260 feet in height, with a crest length of 1,800 feet and a hydraulic head of 240 feet, (2) a proposed upper reservoir having a surface area of 75 acres, with a storage capacity of 4,400 acre-feet and a normal water surface elevation of 7,200 feet mean sea level (msl), (3) a proposed lower reservoir having a surface area of 150 acres, with storage capacity of 6,500 acre-feet and normal water surface elevation of 6,000 feet msl, (4) a 228-inch-diameter steel penstock approximately 16,200 feet long, (5) a proposed powerhouse containing six generating units having a total installed capacity of 500 megawatts, (6) a switchyard, (7) a 115 kV transmission line approximately 25.4 miles in length, and (8) appurtenant facilities. The proposed project would generate approximately 1,480 gigawatt hours annually, which would be sold to a local utility.

Applicant Contact: Mr. Daniel K. Dygert, COO, Carrus Land Systems, LLC, 1047 S. 100 W., Ste. 210, Logan, UT 84321, (435) 787-2211, and Mr. Brent L. Smith, COO, Symbiotics, LLC, P.O. Box 535, Rigby, ID 83442, (208) 745-0834.

FERC Contact: Kelly Houff, 202-502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13133) in the docket number field to access the document. For assistance, call toll-free 1-866-208-3372.

Kimberly D. Bose,
Secretary.

[FR Doc. E8-17148 Filed 7-25-08; 8:45 am]

BILLING CODE 6717-01-P